EXPORT-IMPORT BANK OF THE U.S.

[Public Notice 147]

Agency Information Collection Activities: Emergency Clearance; Comment Request

AGENCY: Export-Import Bank of the U.S.

ACTION: Submission for OMB Emergency Clearance Review and Comments Request.

FORM TITLE: EIB 10-01 Questionnaire Regarding Activities Related to the Islamic Republic of Iran—OMB 3048-XXXX.

SUMMARY: The Export-Import Bank of the United States (“Ex-Im Bank”), as a part of its continuing effort to reduce paperwork and respondent burden, invites the general public and other Federal Agencies to comment on the proposed information collection, as required by the Paperwork Reduction Act of 1995. Our customers will be able to submit this form on paper or electronically.

The purpose of this questionnaire is to allow the Ex-Im Bank to comply with the Consolidated Appropriations Act of 2010 (Pub. L. 111-117) (“the Act”) and ensure the Ex-Im Bank does not authorize transactions involving prohibited parties subject to the Iran sanctions language of the Act.

DATES: Comments should be received on or before March 25, 2010 to be assured of consideration.

ADDRESSES: Comments maybe submitted through http://www.regulations.gov or mailed to Office of Management and Budget, Office of Information and Regulatory Affairs, 725 17th Street, NW., Washington, DC 20038 attention: OMB Number 3048-XXXX.

SUPPLEMENTARY INFORMATION:

Titles and Form Number: EIB 10-01.

OMB Number: 3048-XXXX.

Type of Review: Emergency Clearance.

Need and Use:

Affected Public: Borrowers, guarantors, sponsors, purchasers and end-users in proposed Ex-Im Bank transactions.

Annual Number of Respondents: 485.

Estimated Time per Respondent: 30 minutes.

Government Annual Burden Hours: 122 hours.

Frequency of Reporting or Use: As needed to request support for a long term or medium term export sale.

Faisal B. Siddiqui,
Assistant General Counsel for Administration.

Questionnaire Regarding Activities Related to the Islamic Republic of Iran

The Export-Import Bank of the United States (“Ex-Im Bank”) is prohibited from supporting certain transactions involving parties that conduct business with the Iranian energy sector. To ensure compliance, Ex-Im Bank requires your company to complete this Questionnaire. In addition, Ex-Im Bank reserves the right to ask further questions as necessary.

Part A: General Information

1. Company Information:

Company Name:

Address:

Contact:

Name and Title:

Telephone:

Email:

2. Are you an energy producer ¹ or refiner? ² (Check “yes” if any part of your business involves energy production or refinery operations). If yes, please complete Part B of this Questionnaire.

¹ For purposes of this Questionnaire, an “energy producer” means a business that produces energy of any kind, including (without limitation) gas- or oil- fueled, coal, nuclear, hydro, chemical reaction, electromagnetic, wave or tidal action, biofuels-based, geothermal and/or renewable energy production.

² For purposes of this Questionnaire, a “refiner” means a business that refines hydrocarbons into products of value or that refines matter into combustible fuel.

☐ Yes

☐ No

3. Are you affiliated though common ownership with, or control by, an energy producer or refiner? (Check “yes” if any part of such person/entity's business involves energy production or refinery operations. Also check “yes” if you are owned either in part or in full by a sovereign and your sovereign owner has an ownership interest in an energy producer or refiner.) If yes, please complete Part B of this Questionnaire.

☐ Yes

☐ No

If yes, name(s) of energy producer or refiner:

Address:

Contact:

Name and Title:

Telephone:

E-mail:

Part B: Description of Business Dealings With Iran

1. Does your company (or the energy producer/refiner named in A.3 above) provide Iran or any Iranian entity with refined petroleum resources, or is your company (or the energy producer/refiner named in A.3 above) currently negotiating to do so? If yes, please provide detailed information about such arrangements, amounts, timeframes, counterparties and other details of the transaction or proposed transaction.

2. Does your company (or the energy producer/refiner named in A.3 above) contribute in any way to Iran's capability to import refined petroleum resources, or is your company (or the energy producer/refiner named in A.3 above) currently negotiating to do so? If yes, please provide a detailed explanation.

3. Does your company (or the energy producer/refiner named in A.3 above) have any role in allowing Iran to maintain or expand its domestic production of refined petroleum resources, including any assistance in refinery construction, modernization or repair, or is your company (or the energy producer/refiner named in A.3 above) currently negotiating to have such a role? If yes, please provide a detailed explanation.

4. Please describe in detail any business dealings pertaining to the energy sector that your company (or the energy producer/refiner named in A.3 above) has had with Iran or any Iranian entity in the past 5 years.

Part C: Certification

Certification. The submitter of this questionnaire (“Submitter”) certifies that the facts stated and the representations made above and in any attachments to this Questionnaire are true, to the best of the Submitter's knowledge and belief after due diligence, and that the Submitter has not misrepresented or omitted any material facts. The Submitter further understands that this is an official submission to the United States Government and this Certification is subject to the penalties for fraud against the U.S. Government (18 U.S.C. 1001, et seq.). The Submitter further certifies that it will provide additional information with respect to any of the matters covered in this Questionnaire upon Ex-Im Bank's request. The authorized officer or employee signing below is fully authorized to certify the answers in this Questionnaire on behalf of the Submitter.

Company Name:

By:

(Authorized Officer or Employee)

Name:

Title:

[FR Doc. 2010-5615 Filed 3-12-10; 8:45 am]

BILLING CODE 6690-01-P